DEPARTMENT OF THE INTERIOR

National Park Service

[NPS-WASO-NRNHL-DTS#-35207; PPWOCRADI0, PCU00RP14.R50000]

National Register of Historic Places; Notification of Pending Nominations and Related Actions

AGENCY: National Park Service, Interior.

ACTION: Notice.

SUMMARY: The National Park Service is soliciting electronic comments on the significance of properties nominated before January 21, 2023, for listing or related actions in the National Register of Historic Places.

DATES: Comments should be submitted electronically by February 17, 2023.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before January 21, 2023. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations Submitted by State or Tribal Historic Preservation Officers

Key: State, County, Property Name, Multiple Name (if applicable), Address/Boundary, City, Vicinity, Reference Number.

INDIANA

Allen County

General Electric Fort Wayne Electric Works Historic District, 1635 Broadway and 1030 Stanley Ave., Fort Wayne, SG100008658

Carroll County

Camden First Baptist Church, 225 East Main St., Camden, SG100008659

Jasper County

Nowels, David & Sarah, House, 500 North McKinley, Rensselaer, SG100008660

Jennings County

Hicklin House and Settlement, 2330 South Cty. Rd. 675 East, San Jacinto vicinity, SG10000866

Marion County

Forebears, 4849 Buttonwood Crescent, Indianapolis, SG100008662

Monroe County

Stinesville Historic District, Roughly bounded by North., Sycamore, Elm, and East Sts. including east side of Main St. to Broadway St., Stinesville, SG100008663

Perry County

Tell City Carnegie Library, 548 9th St., Tell City, SG100008664

St. Joseph County

Lowell Heights-Olivet African Methodist Episcopal Church, 719 North Notre Dame Ave., South Bend, SG100008665

NEW YORK

Onondaga County

Hanford, George C., House, 506 West Onondaga St., Syracuse, SG100008656

OHIO

Hamilton County

Winton Terrace Historic District, 4848,4802-5070 and 4803-5089 Winneste Ave., 402-512 Kings Run Dr., 4703-4861, Este Ave., 1-293 Craft St., 3-59 Kings Run Ct., and 3-110 Topridge Pl., Cincinnati, SG100008657

A request for removal has been made for the following resource:

INDIANA

Allen County

Craigville Depot, Ryan and Edgerton Rds., New Haven vicinity, OT84000181

A request to move has been received for the following resource:

INDIANA

Vanderburgh County

USS LST 325 (tank landing ship), 610 NW Riverside Dr., Evansville, MV09000434

Nomination Submitted by Federal Preservation Officer

The State Historic Preservation Officer reviewed the following nomination and responded to the Federal Preservation Officer within 45 days of receipt of the nomination and supports listing the property in the National Register of Historic Places.

ARKANSAS

Crawford County

Wing School, (Public Schools in the Ozarks MPS), 15312 AR 59, Natural Dam, MP100008655

Authority: Section 60.13 of 36 CFR part 60.

Dated: January 25, 2023.
Sherry A Frear,
Chief, National Register of Historic Places/National Historic Landmarks Program.

[FR Doc. 2023-02176 Filed 2-1-23; 8:45 am]

BILLING CODE 4312-52-P